DEPARTMENT OF THE TREASURY

Submission for OMB Review; Comment Request

July 30, 2015.

The Department of the Treasury will submit the following information collection request to the Office of Management and Budget (OMB) for review and clearance in accordance with the Paperwork Reduction Act of 1995, Public Law 104-13, on or after the date of publication of this notice.

DATES: Comments should be received on or before September 3, 2015 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request maybe found at www.reginfo.gov.

Departmental Offices (DO)

OMB Number: 1505-XXXX.

Type of Review: New Clearance.

Title: Ramp It Up Survey.

Abstract: This Treasury-funded research will be the first evaluation of the Ramp It Up app. The primary goal of the 500-person evaluation is to assess the tool's impact on students' mental models about their ability to attend and finance higher education. The evaluation will examine changes in students' confidence in their choices related to college financing, knowledge of college financial tools and concepts, and decision-making skills related to college financing.

Affected Public: Individuals.

Estimated Total Burden Hours: 2.

Robert Dahl,
Treasury PRA Clearance Officer.

[FR Doc. 2015-19052 Filed 8-3-15; 8:45 am]

BILLING CODE 4810-25-P